DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Transformation Accountability (TRAC) Data Collection Instrument (OMB No. 093-0285)—Revised

The Substance Abuse and Mental Health Services Administration (SAMHSA), Center for Mental Health Services (CMHS) is proposing to modify one of its current Transformation Accountability (TRAC) system data collection tools to include previously piloted recovery measures. Specifically, this revision entails the incorporation of twelve recovery measures into the current CMHS NOMs Adult Client-level Measures for Discretionary Programs Providing Direct Services data collection tool. As part of its strategic initiative to support recovery from mental health and substance use disorders, SAMHSA has been working to develop a standard measure of recovery that can be used as part of its grantee performance reporting activities.

This revision will add eight questions from the World Health Organization's (WHO) Quality of Life (QOL) to SAMHSA's existing set of Government Performance and Results Act (GPRA) measures along with four additional measures that support the WHO QOL-8. Data will be collected at two time points—at client intake and at six months post-intake. These are two points in time during which SAMHSA grantees routinely collect data on the individuals participating in their programs.

The WHO QOL-8 will assess the following domains using the items listed below:

Question number | Item | Domain
1 | How would you rate your quality of life? | Overall quality of life.
2 | How satisfied are you with your health? | Overall quality of life.
3 | Do you have enough energy for everyday life? | Physical health.
4 | How satisfied are you with your ability to perform your daily living activities? | Physical health.
5 | How satisfied are you with yourself? | Psychological.
6 | How satisfied are you with your personal relationships? | Social relationships.
7 | Have you enough money to meet your needs? | Environment.
8 | How satisfied are you with the conditions of your living place? | Environment.

The revision also includes the following recovery-related performance measures:

Question number | Item
9 | During the past 30 days, how much have you been bothered by these psychological or emotional problems? (This question will be placed in the instrument following the K6 questions for proper sequence).
10 | I have family or friends that are supportive of my recovery.
11 | I generally accomplish what I set out to do.
12 | I feel capable of managing my health care needs.

Approval of these items by the Office of Management and Budget (OMB) will allow SAMHSA to further refine the Recovery Measure developed for this project. It will also help determine whether the Recovery Measure is added to SAMHSA's set of required performance measurement tools designed to aid in tracking recovery among clients receiving services from the Agency's funded programs.

Table 1 below indicates the annualized respondent burden estimate.

Table 1—Annualized Respondent Burden Hours, 2016-2019
Type of response | Number of respondents | Responses per respondent | Total responses | Hours per response | Total hour burden
Client-level baseline interview | 55,744 | 1 | 55,744 | 0.58 | 32,332
Client-level 6-month reassessment interview ¹ | 44,595 | 1 | 44,595 | 0.58 | 25,865
Client-level discharge interview ² | 16,723 | 1 | 16,723 | 0.58 | 9,699
PBHCI—Section H Form Only Baseline | 14,000 | 1 | 14,000 | .08 | 1,120
PBHCI—Section H Form Only Follow-Up ³ | 9,240 | 1 | 9,240 | .08 | 739
PBHCI—Section H Form Only Discharge ⁴ | 4,200 | 1 | 4,200 | .08 | 336
HIV Continuum of Care Specific Form Baseline | 200 | 1 | 200 | 0.33 | 66
HIV Continuum of Care Follow-Up ⁵ | 148 | 1 | 148 | 0.33 | 49
HIV Continuum of Care Discharge ⁶ | 104 | 1 | 104 | 0.33 | 34
Subtotal | 144,954 |  | 144,954 |  | 70,240
Infrastructure development, prevention, and mental health promotion quarterly record abstraction ⁷ | 982 | 4.0 | 3,928 | 2.0 | 7,856
Total | 145,936 |  | 148,882 |  | 78,096
¹ It is estimated that 66% of baseline clients will complete this interview.
² It is estimated that 30% of baseline clients will complete this interview.
³ It is estimated that 74% of baseline clients will complete this interview.
⁴ It is estimated that 52% of baseline clients will complete this interview.
⁵ It is estimated that 52% of baseline clients will complete this interview.
⁶ It is estimated that 30% of baseline clients will complete this interview.
⁷ Grantees are required to report this information as a condition of their grant. No attrition is estimated.
Note: Numbers may not add to the totals due to rounding and some individual participants completing more than one form.

Send comments to Summer King, SAMHSA Reports Clearance Officer, 5600 Fishers Lane, Room 15E57-B, Rockville, Maryland 20857, OR email comments to summer.king@samhsa.hhs.gov. Written comments should be received by December 6, 2016.

Summer King,
Statistician.

[FR Doc. 2016-24265 Filed 10-6-16; 8:45 am]

BILLING CODE 4162-20-P